DEPARTMENT OF ENERGY

Federal Energy Regulatory Commission

18 CFR Part 35

[Docket No. RM10-23-000]

Transmission Planning and Cost Allocation by Transmission Owning and Operating Public Utilities

September 29, 2010.

AGENCY: Federal Energy Regulatory Commission, DOE.

ACTION: Notice of proposed rulemaking; request for reply comments.

SUMMARY: On June 17, 2010, the Commission issued a Notice of proposed rulemaking (75 FR 37884) proposing to amend the transmission planning and cost allocation requirements established in Order No. 890 to ensure that Commission-jurisdictional services are provided on a basis that is just, reasonable and not unduly discriminatory or preferential. With respect to transmission planning, the proposed rule would provide that local and regional transmission planning processes account for transmission needs driven by public policy requirements established by state or federal laws or regulations; improve coordination between neighboring transmission planning regions with respect to interregional facilities; and remove from Commission-approved tariffs or agreements a right of first refusal created by those documents that provides an incumbent transmission provider with an undue advantage over a nonincumbent transmission developer. Neither incumbent nor nonincumbent transmission facility developers should, as a result of a Commission-approved tariff or agreement, receive different treatment in a regional transmission planning process. Further, both should share similar benefits and obligations commensurate with that participation, including the right, consistent with state or local laws or regulations, to construct and own a facility that it sponsors in a regional transmission planning process and that is selected for inclusion in the regional transmission plan. With respect to cost allocation, the proposed rule would establish a closer link between transmission planning processes and cost allocation and would require cost allocation methods for intraregional and interregional transmission facilities to satisfy newly established cost allocation principles. The Commission is providing interested persons an opportunity to file reply comments on the proposed rule.

DATES: Reply comments to the proposed rule published June 30, 2010 (75 FR 37884) are due November 12, 2010.

ADDRESSES: You may submit reply comments, identified by Docket No. RM10-23-000, by any of the following methods:

• Agency Web Site: http://www.ferc.gov. Documents created electronically using word processing software should be filed in native applications or print-to-PDF format and not in a scanned format.

• Mail/Hand Delivery: Commenters unable to file comments electronically must mail or hand deliver an original and 14 copies of their comments to: Federal Energy Regulatory Commission, Office of the Secretary, 888 First Street, NE., Washington, DC 20426.

FOR FURTHER INFORMATION CONTACT: Russell Profozich (Technical Information), Office of Energy Policy and Innovation, Federal Energy Regulatory Commission, 888 First Street, NE., Washington, DC 20426. Telephone: (202) 502-6478, E-mail: russell.profozich@ferc.gov.

John Cohen (Legal Information), Office of the General Counsel, Federal Energy Regulatory Commission, 888 First Street, NE., Washington, DC 20426, Telephone: (202) 502-8705, E-mail: john.cohen@ferc.gov.

SUPPLEMENTARY INFORMATION:

Notice Establishing Reply Comment Period

On September 28, 2010, Western Independent Transmission Group filed a motion to establish a period for filing reply comments to the Commission's Notice of Proposed Rulemaking issued June 17, 2010, in the above-docketed proceeding.¹

¹ 131 FERC ¶ 61,253 (2010).

The period for filing initial comments in this proceeding ran through September 29, 2010. Upon consideration, the Commission establishes a period for filing reply comments in this proceeding, which will run to and including November 12, 2010.

Any interested person may file a reply to initial comments made by other interested persons in this proceeding. Reply comments should not raise new arguments that are not directly responsive to arguments presented in initial comments, nor should a reply be repetitive of arguments that an interested person made in its initial comments.

Kimberly D. Bose,
Secretary.

[FR Doc. 2010-24976 Filed 10-6-10; 8:45 am]

BILLING CODE 6717-01-P